DEPARTMENT OF TRANSPORTATION

Federal Aviation Administration

14 CFR Part 39

[Docket No. FAA-2008-0256; Directorate Identifier 2007-SW-01-AD; Amendment 39-18046; AD 2008-14-02 R1]

RIN 2120-AA64

Airworthiness Directives; Agusta S.p.A. (Agusta) Helicopters

AGENCY: Federal Aviation Administration (FAA), DOT.

ACTION: Final rule.

SUMMARY: We are revising Airworthiness Directive (AD) 2008-14-02 for Agusta Model AB139 and AW139 helicopters. AD 2008-14-02 required inspecting the fuselage frame to detect fatigue cracks which could lead to structural failure and subsequent loss of control of the helicopter. Since we issued AD 2008-14-02, Agusta developed a frame reinforcement modification, which supports extending the interval for inspecting the fuselage frame for a fatigue crack. This new AD requires inspecting the fuselage frame for a crack and reduces the applicability from AD 2008-14-02 to exclude helicopters with the frame reinforcement modification. The actions of this AD are intended to detect a fatigue crack that could result in failure of the fuselage frame and subsequent loss of control of the helicopter.

DATES: This AD is effective January 16, 2015.

The Director of the Federal Register approved the incorporation by reference of a certain document listed in this AD as of August 14, 2008 (73 FR 39572, July 10, 2008).

ADDRESSES: For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Sharon Miles, Aviation Safety Engineer, Regulations and Policy Group, Rotorcraft Directorate, FAA, 2601 Meacham Blvd., Fort Worth, Texas 76137; telephone (817) 222-5110; email sharon.y.miles@faa.gov.

SUPPLEMENTARY INFORMATION:

Discussion

We issued a notice of proposed rulemaking (NPRM) to amend 14 CFR part 39 to revise AD 2008-14-02, Amendment 39-15597 (73 FR 39572, July 10, 2008) (AD 2008-14-02), for Agusta Model AB 139 and AW 139 helicopters. The NPRM published in the Federal Register on July 8, 2013 (78 FR 40640). The NPRM proposed to retain all requirements of AD 2008-14-02 but remove from the applicability section any helicopter modified by installing structural reinforcement skins in accordance with Agusta Bollettino Tecnico No. 139-089, dated February 19, 2010 (BT 139-089). The NPRM proposed to continue to require initially inspecting the fuselage frame 5700 middle section within 10 hours time-in-service (TIS), or upon accumulating 100 hours TIS since new, whichever occurs later, for a crack. The NPRM also proposed to continue to require repeating this inspection at intervals not exceeding 100 hours TIS, and, if there is a crack, before further flight, repairing the crack in accordance with FAA-approved procedures.

The NPRM was prompted by AD No. 2006-0357R1, dated April 22, 2010, issued by EASA, which is the Technical Agent for the Member States of the European Union, to correct an unsafe condition for Agusta Model AB 139 and AW 139 helicopters. EASA advised that tests have shown that the Agusta AB/AW 139's fuselage frame 5700 middle section is prone to fatigue damage. EASA issued AD No. 2006-0357R1 to revise EASA AD No. 2006-0357, dated November 29, 2006, by removing Agusta Model AB139 and AW139 helicopters modified with the structural reinforced frames from the applicability requirements of the fatigue crack inspection.

Comments

After our NPRM (78 FR 40640, July 8, 2013), was published, we received a comment from one commenter.

Request

One commenter requested that the Applicability section include an exception for Agusta Model AB139 and AW139 helicopters with Main Cabin serial numbers (S/Ns) “TA1721 and subsequent,” and “PZL219 and subsequent.” The commenter proposed this change because the specified helicopters have left-hand (LH) frame station 5700 part number (P/N) 3P5338A13354 and right-hand (RH) frame station 5700 P/N 3P5338A13454 installed.

We disagree that such a change is necessary. Paragraph (a) of the AD states that it does not apply to helicopters with LH frame station 5700, P/N 3P5338A13354, and RH frame station 5700, P/N 3P5338A13454, installed. Thus, helicopters with the specified main cabin S/Ns are already excepted from the applicability of this AD.

FAA's Determination

These helicopters have been approved by the aviation authority of Italy and are approved for operation in the United States. Pursuant to our bilateral agreement with Italy, EASA, its technical representative, has notified us of the unsafe condition described in the EASA AD. We are issuing this AD because we evaluated all information provided by EASA, reviewed the relevant information, considered the comment received, and determined the unsafe condition exists and is likely to exist or develop on other helicopters of these same type designs and that air safety and the public interest require adopting the AD requirements as proposed, except we have correctly stated the design holder's name as Agusta S.p.A. instead of AgustaWestland S.p.A. as specified by the current FAA type certificate. This change is consistent with the intent of the proposals in the NPRM (78 FR 40640, July 8, 2013) and will not increase the economic burden on any operator nor increase the scope of the AD.

Differences Between This AD and the EASA AD

The EASA AD requires contacting the type certificate (TC) holder for further instructions if damage or a crack is found; this AD requires repairing the crack, before further flight, with FAA-approved procedures with no requirement to contact the TC holder. The EASA AD also excludes helicopters with S/Ns 31002, 31003, 31004, and 31007; whereas, this AD does not.

Related Service Information

Agusta issued Bollettino Tecnico No. 139-018, Revision B, dated October 18, 2006, which specifies inspection procedures for the middle section frame 5700 for all Model AB139 and AW139 helicopters except S/Ns 31002, 31003, 31004, and 31007. Subsequently, Agusta issued BT 139-089, which describes procedures for installing carbon fiber structural reinforcement skins at frame station 5700 for two part-numbered fuselage frames and for one frame station 3900 fuselage frame. Once the fuselage frames have been modified in accordance with BT 139-089, the inspection interval of Mandatory Inspection Task MI53-12 may be extended.

Costs of Compliance

We estimate this AD affects 33 helicopters of U.S. Registry. We estimate that operators may incur the following costs in order to comply with this AD. It will take about 1 work-hour to comply with the initial and each subsequent inspection required by this AD. The average labor rate is $85 per work-hour so the approximate cost for each inspection is $85 per helicopter or $2,805 for the U.S.-registered fleet. We estimate the cost to repair the fuselage middle frame section to be about $10,000.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-14-02, Amendment 39-15597 (73 FR 39572, July 10, 2008), and adding the following new AD:

2008-14-02 R1 Agusta S.p.A. (Agusta) Helicopters: Amendment 39-18046; Docket No. FAA-2008-0256; Directorate Identifier 2007-SW-01-AD.

(a) Applicability

This AD applies to Agusta Model AB139 and AW139 helicopters, except helicopters with reinforcement skin part number (P/N) 3G5306P08512 installed on left hand (LH) frame station 5700 P/N 3P5338A13352 and right hand (RH) frame station 5700 P/N 3P5338A13452; or with reinforcement skin P/N 3G5306P08513 installed on LH frame station 5700 P/N 3P5338A13353 and RH frame station 5700 P/N 3P5338A13453; or with LH frame station 5700 P/N 3P5338A13354 and RH frame station 5700 P/N 3P5338A13454, installed; certificated in any category.

(b) Unsafe Condition

This AD defines the unsafe condition as a fatigue crack in the fuselage frame 5700 middle section. This condition could result in structural failure of the frame and subsequent loss of control of the helicopter.

(c) Affected ADs

This AD revises AD 2008-14-02, Amendment 39-15597 (73 FR 39572, July 10, 2008).

(d) Compliance

You are responsible for performing each action required by this AD within the specified compliance time unless it has already been accomplished prior to that time.

(e) Required Actions

(1) Within 10 hours time-in-service (TIS), or upon accumulating 100 hours TIS since new, whichever occurs later, inspect the fuselage frame 5700 middle section for a crack in accordance with the Compliance Instructions, paragraphs 1. through 4., of Agusta Bollettino Tecnico No. 139-018, Revision B, dated October 18, 2006.

(2) Thereafter, at intervals not exceeding 100 hours TIS, repeat the inspection as required by paragraph (e)(1) of this AD.

(3) If there is a crack, before further flight, repair the crack in accordance with an FAA-approved procedure.

(f) Effective Date

This AD becomes effective January 16, 2015.

(g) Alternative Methods of Compliance (AMOCs)

(1) The Manager, Safety Management Group, FAA, may approve AMOCs for this AD. Send your proposal to: Sharon Miles, Aviation Safety Engineer, Regulations and Policy Group, Rotorcraft Directorate, FAA, 2601 Meacham Blvd., Fort Worth, Texas 76137; telephone (817) 222-5110; email sharon.y.miles@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Agusta Bollettino Tecnico No. 139-089, dated February 19, 2010, which is not incorporated by reference, contains additional information about the subject of this AD. For this service information, contact AgustaWestland, Product Support Engineering, Via del Gregge, 100, 21015 Lonate Pozzolo (VA) Italy, ATTN: Maurizio D'Angelo; telephone 39-0331-664757; fax 39-0331-664680; or at http://www.agustawestland.com/technical-bulletins. You may review a copy of the service information at the FAA, Office of the Regional Counsel, Southwest Region, 2601 Meacham Blvd., Room 663, Fort Worth, Texas 76137.

(2) The subject of this AD is addressed in European Aviation Safety Agency (EASA) AD No. 2006-0357R1, dated April 22, 2010. You may view the EASA AD on the Internet at http://www.regulations.gov in Docket No. FAA-2008-0256.

(i) Subject

Joint Aircraft Service Component (JASC) Code: 5311, Fuselage, Main Frame.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on August 14, 2008 (73 FR 39572, July 10, 2008).

(i) Agusta Bollettino Tecnico No. 139-018, Revision B, dated October 18, 2006.

(ii) Reserved.

(4) For Agusta service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins.

(5) You may view this service information at FAA, Office of the Regional Counsel, Southwest Region, 2601 Meacham Blvd., Room 663, Fort Worth, Texas 76137. For information on the availability of this material at the FAA, call (817) 222-5110.

(6) You may view this service information that is incorporated by reference at the National Archives and Records Administration (NARA). For information on the availability of this material at NARA, call (202) 741-6030, or go to: http://www.archives.gov/federal-register/cfr/ibr-locations.html.

Issued in Fort Worth, Texas, on November 24, 2014.
Kim Smith,
Directorate Manager, Rotorcraft Directorate, Aircraft Certification Service.

[FR Doc. 2014-28913 Filed 12-11-14; 8:45 am]

BILLING CODE 4910-13-P